DEPARTMENT OF COMMERCE

Minority Business Development Agency

[Docket No. 980901228-5236-05]

Solicitation of Applications for the Minority Business Opportunity Center (MBOC) Program

AGENCY: Minority Business Development Agency, Department of Commerce.

ACTION: Notice of funding availability; correction.

SUMMARY: The Minority Business Development Agency publishes this notice to make a correction to the Eligibility section in the Solicitation of Applications for the Minority Business Opportunity Center (MBOC) Program originally announced in the Federal Register on August 30, 2005.

FOR FURTHER INFORMATION CONTACT: Please visit MBDA's Minority Business Internet Portal at http://www.mbda.gov. Paper applications and Standard Forms may be obtained by contacting the MBDA National Enterprise Center (NEC) for the area in which the Applicant is located (See Agency Contacts section) or visiting MBDA's Portal at http://www.mbda.gov. Standard Forms 424, 424A, 424B, and SF-LLL can also be obtained at http://www.whitehouse.gov/omb/grants, or http://Grants.gov. Forms CD-511, and CD-346 may be obtained at http://www.doc.gov/forms.

Responsibility for ensuring that applications are complete and received by MBDA on time is the sole responsibility of the applicant.

SUPPLEMENTARY INFORMATION: On August 30, 2005, MBDA published a solicitation of applications for the MBOC Program. 70 FR 51338. In that notice, MBDA inadvertently included federal agencies as an entity eligible for grants under the MBOC program. This notice corrects the eligibility criteria to remove federal agencies as an eligible entity. Federal agencies are not eligible to apply to the MBOC program because financial assistance awards in the form of Cooperative Agreements will be used to fund the MBOC Program and federal agencies are not eligible to receive Cooperative Agreements. The correct eligibility criteria is stated below.

Eligibility: For-profit entities (including sole-proprietorships, partnerships, and corporations), non-profit organizations, State and local government entities, American Indian tribes, and Educational institutions are eligible to operate MBOCs.

All other requirements stated in the August 30, 2005 solicitation remain the same.

Intergovernmental Review

Applications under this program are not subject to Executive Order 12372, “Intergovernmental Review of Federal Programs.”

Limitation of Liability

Applicants are hereby given notice that funds have not yet been appropriated for this program. In no event will MBDA or the department of Commerce be responsible for proposal preparation costs if this program fails to receive funding or is cancelled because of other agency priorities. Publication of this announcement does not oblige MBDA or the Department of Commerce to award any specific project or to obligate any available funds.

Universal Identifier

Applicant should be aware that they may be required to provide a Dun and Bradstreet Data Universal Numbering system (DUNS) number during the application process. See the June 27, 2003 (68 FR 38402) Federal Register notice for additional information. Organization can receive a DUNS number at no cost by calling the dedicated toll-free DUNS Number request line at 1-866-705-5711 or on MBDA's Web site at http://www.mbda.gov.

Department of Commerce Pre-Award Notification Requirements for Grants and Cooperative Agreements

The Department of Commerce Pre-Award Notification Requirements for Grants and Cooperative Agreements contained in the Federal Register notice of December 30, 2004 (69 FR 78389) are applicable to this solicitation.

Executive Order 12866

This notice has been determined to be not significant for purposes of Executive Order 12866.

Administrative Procedure Act/ Regulatory Flexibility Act

Prior notice and an opportunity for public comment are not required by the Administrative Procedure Act or any other law for rules concerning public property, loans, grants, benefits, and contracts (5 U.S.C. 553(a)(2)). Because notice and opportunity for comment are not required pursuant to 5 U.S.C. 553 or any other law, the analytical requirements of the Regulatory Flexibility Act (5 U.S.C. 601 et seq.) are inapplicable. Therefore, a regulatory flexibility analysis has not been prepared.

Paperwork Reduction Act

This document contains collection-of information requirements subject to the Paperwork Reduction Act (PRA) the use of standard forms 424, 424A, 424B, CD-346, and SF-LLL have been approved by OMB under the respective control numbers 0348-0043, 0348-0044, 0348-0040, 0605-0001, and 0348-0046. Notwithstanding any other provisions of law, no person is required to respond to, nor shall any person be subject to a penalty for failure to comply with a collection of information subject to the Paperwork Reduction Act unless that collection displays a currently valid OMB control Number.

Dated: September 2, 2005.
Ronald J. Marin,
Financial Management Officer, Minority Business Development Agency.

[FR Doc. 05-17777 Filed 9-8-05; 8:45 am]

BILLING CODE 3510-21-P